DEPARTMENT OF ENERGY

Federal Energy Regulatory Commission

Combined Notice of Filings

Take notice that the Commission has received the following Natural Gas Pipeline Rate and Refund Report filings:

Filings Instituting Proceedings

Docket Number: PR18-37-000.

Applicants: ONEOK Texas Gas Storage, L.L.C.

Description: Tariff filing per 284.123(b),(e)+(g): OTGS FERC 311 Rate Change to be effective 3/14/2018.

Filed Date: 3/14/18.

Accession Number: 201803145060.

Comments Due: 5 p.m. ET 4/4/18.

284.123(g) Protests Due: 5 p.m. ET 5/14/18.

Docket Numbers: CP18-107-000.

Applicants: South Pipeline Company, LP.

Description: South Pipeline Company, LP Application to Abandon X-Rate Schedules between Gulf South and Southern Natural.

Filed Date: 3/9/18.

Accession Number: 20180309-5228.

Comments Due: 5 p.m. ET 3/30/18.

Docket Numbers: RP18-244-001.

Applicants: National Fuel Gas Supply Corporation.

Description: Compliance filing Security Administrator Compliance Filing to be effective 4/19/2018.

Filed Date: 3/15/18.

Accession Number: 20180315-5103.

Comments Due: 5 p.m. ET 3/27/18.

Docket Numbers: RP18-245-001.

Applicants: Empire Pipeline, Inc.

Description: eTariff filing per 580(TheirDescription)DT-A: Empire Security Admin Compliance Filing to be effective 4/19/2018.

Filed Date: 3/15/18.

Accession Number: 20180315-5106.

Comments Due: 5 p.m. ET 3/27/18.

Docket Numbers: RP18-561-000.

Applicants: Equitrans, L.P.

Description: § 4(d) Rate Filing: Negotiated Rate Service Agreement—BP LPS 4/1/2018 to be effective 4/1/2018.

Filed Date: 3/15/18.

Accession Number: 20180315-5023.

Comments Due: 5 p.m. ET 3/27/18.

Docket Numbers: RP18-562-000.

Applicants: Empire Pipeline, Inc.

Description: § 4(d) Rate Filing: Fuel Tracket Tracker (Empire tracking Supply) 2018 to be effective 4/1/2018.

Filed Date: 3/15/18.

Accession Number: 20180315-5062.

Comments Due: 5 p.m. ET 3/27/18.

Docket Numbers: RP18-563-000.

Applicants: Rockies Express Pipeline LLC.

Description: § 4(d) Rate Filing: Neg Rate 2018-03-15 CP to be effective 3/15/2018.

Filed Date: 3/15/18.

Accession Number: 20180315-5104.

Comments Due: 5 p.m. ET 3/27/18.

Docket Numbers: RP18-564-000.

Applicants: Golden Pass Pipeline LLC.

Description: Golden Pass Pipeline LLC submits tariff filing per 154.204: Revision to GPPL 2018 Annual Retainage Report to be effective 4/1/2018.

Filed Date: 3/15/18.

Accession Number: 20180315-5107.

Comments Due: 5 p.m. ET 3/22/18.

Docket Numbers: RP18-565-000.

Applicants: RRI Energy Services, LLC, Kestrel Acquisition, LLC.

Description: Joint Petition of RRI Energy Services, LLC, et al. for Limited Waiver of Capacity Release Regulations and Tariff Provisions.

Filed Date: 3/15/18.

Accession Number: 20180315-5110.

Comments Due: 5 p.m. ET 3/27/18.

Docket Numbers: RP17-598-003.

Applicants: Great Lakes Gas Transmission Limited Partnership.

Description: Compliance filing Settlement Compliance to RP17-598 to be effective 10/1/2017.

Filed Date: 3/16/18.

Accession Number: 20180316-5003.

Comments Due: 5 p.m. ET 3/28/18.

Docket Numbers: RP18-264-002.

Applicants: Destin Pipeline Company, L.L.C.

Description: Compliance filing Mid-Year Fuel Retention Adjustment to be effective 5/1/2018.

Filed Date: 3/16/18.

Accession Number: 20180316-5207.

Comments Due: 5 p.m. ET 3/28/18.

Docket Numbers: RP18-536-001.

Applicants: American Midstream (Midla), LLC.

Description: Tariff Amendment: Annual Fuel, Lost and Unaccounted-for Gas Percentage Filing Amendment to be effective 4/1/2018.

Filed Date: 3/16/18.

Accession Number: 20180316-5037.

Comments Due: 5 p.m. ET 3/28/18.

Docket Numbers: RP18-566-000.

Applicants: Natural Gas Pipeline Company of America.

Description: § 4(d) Rate Filing: Negotiated Rate Filing—to be effective 11/1/2017.

Filed Date: 3/16/18.

Accession Number: 20180316-5000.

Comments Due: 5 p.m. ET 3/28/18.

Docket Numbers: RP18-567-000.

Applicants: Algonquin Gas Transmission, LLC.

Description: § 4(d) Rate Filing: Negotiated Rates—Bay State release to Sequent 796084 to be effective 5/1/2018.

Filed Date: 3/16/18.

Accession Number: 20180316-5005.

Comments Due: 5 p.m. ET 3/28/18.

Docket Numbers: RP18-568-000.

Applicants: Transcontinental Gas Pipe Line Company.

Description: Compliance filing Pro Forma Pooling Charges Zones 5 and 6.

Filed Date: 3/16/18.

Accession Number: 20180316-5094.

Comments Due: 5 p.m. ET 3/28/18.

Docket Numbers: RP18-569-000.

Applicants: Columbia Gulf Transmission, LLC.

Description: Compliance filing GXP Implementation Compliance Filing to be effective 4/1/2018.

Filed Date: 3/16/18.

Accession Number: 20180316-5133.

Comments Due: 5 p.m. ET 3/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2018.
Nathaniel J. Davis, Sr.,
Deputy Secretary.

[FR Doc. 2018-05953 Filed 3-22-18; 8:45 am]

BILLING CODE 6717-01-P